DEPARTMENT OF LABOR

Employee Benefits Security Administration

National Summit on Retirement Savings

AGENCY: Employee Benefits Security Administration, Labor.

ACTION: Notice of meeting.

SUMMARY: This document provides notice of the agenda for the national Summit on Retirement Savings, as called for by the Savings Are Vital for Everyone's Retirement (SAVER) Act, which amends Title I of the Employee Retirement Income Security Act of 1974.

DATES: The National Summit on Retirement Savings will begin on the morning of March 1, 2006 and end in the afternoon of March 2, 2006.

ADDRESSES: The Summit will be held at the Willard Intercontinental Hotel, 1401 Pennsylvania Avenue, NW., Washington, DC 20004.

FOR FURTHER INFORMATION CONTACT: Wendy Gehring, Office of the Secretary, U.S. Department of Labor, Room S 2000, (202) 693-6000, or Mary Jost, Senior Director of the Education, International Foundation of Employee Benefits Plans, 18700 West Bluemound Road, P.O. Box 69, Brookfield, WI 53008-0069, (262) 786-6700. These are not toll free numbers.

SUPPLEMENTARY INFORMATION: On November 20, 1997, the President signed Public Law 105-92 (1997) the “Savings Are Vital to Everyone's Retirement Act” (SAVER). The SAVER legislation is aimed at advancing the public's knowledge and understanding of the importance of retirement savings by: (1) Providing a bipartisan National Summit on Retirement Savings co-hosted by the President and the Congressional Leadership in the House and Senate; and (2) establishing an ongoing educational program coordinated by the Department of Labor. The Summit will be held March 1st and 2nd, 2006 in Washington, DC. The purpose of the Summit is to: (1) Increase public awareness of the value of personal savings for retirement, (2) advance the public's knowledge and understanding of retirement savings and its importance to the well being of all Americans, (3) facilitate the development of a broad-based, public retirement savings education program, (4) identify the barriers faced by workers who want to save for retirement, (5) identify the barriers which employers, especially small employers, face in assisting their workers in accumulating retirement savings, (6) examine the impact and effectiveness of individual employers who promote personal savings and retirement savings plan participation among their workers, (7) examine the impact and effectiveness of government programs at the Federal, State, and local levels to educate the public about retirement savings principles, (8) develop recommendations for governmental and private sector action to promote pensions and individual retirement savings, and (9) develop recommendations for the coordination of Federal, State, and local retirement savings education initiatives. The Agenda for the National Summit on Retirement Savings follows.

This agenda is subject to change.

Draft Agenda

National Summit on Retirement Savings

March 1-2, 2006

“Saving for Your Golden Years: Trends, Challenges and Opportunities”

Day 1—Wednesday, March 1, 2006

• Registration/Continental Breakfast.

• Opening Plenary Session.

Welcome and Opening Remarks, Secretary of Labor Elaine L. Chao.

Overview and Introduction, Assistant Secretary of Labor Ann L. Combs, Employee Benefits Security Administration.

Review of Previous Summits and Current Status of Retirement Savings, Dr. Sylvester Schieber, U.S. Director of Benefits Consulting, Watson Wyatt Worldwide.

• Four Concurrent Breakout Sessions.

Delegates will work in one of four teams to examine the challenges facing four distinct groups discussing ways to reach them with retirement savings messages and recommending solutions to assist them in overcoming their savings obstacles. The Summit will address the central issues facing real workers and real families. The groups to be examined are:

Group A: Low-Income Workers.

Group B: Small Business Employees.

Group C: New Entrants to the Workforce.

Group D: Workers Nearing Retirement.

• Lunch.

The Honorable Donald L. Evans, CEO, the Financial Services Forum

Keynote Speaker—Mr. Ben Stein; Actor, Author, Economist, Lawyer, Teacher, Expert on Finance.

• Four Concurrent Breakout Sessions.

• Congressional Reception and Dinner.

Remarks by Members of Congress [invited]:

The Honorable William Frist, MD, Majority Leader, United States Senate.

The Honorable John Boehner, Majority Leader, United States House of Representatives.

The Honorable Michael Enzi, Chairman, Senate Committee on Health, Education, Labor and Pensions.

The Honorable Edward Kennedy, Ranking Member, Senate Committee on Health, Education, Labor and Pensions.

Day 2—Thursday, March 2, 2006

• Breakfast with Congressional Speakers [invited].

The Honorable Charles Grassley, Chairman, Senate Finance Committee.

The Honorable Michael Oxley, Chairman, House Financial Services Committee.

• Keynote Speaker.

The Honorable Richard B. Cheney, Vice President of the United States of America.

• Four Concurrent Breakout Sessions.

• Plenary Session—Reports from the Breakout groups.

• Luncheon and Closing Plenary Session.

Closing Remarks, Secretary Elaine L. Chao.

Signed at Washington, DC, this 15th day of February, 2006.
Ann Combs,
Assistant Secretary of Labor, Employee Benefits Security Administration.

[FR Doc. E6-2489 Filed 2-21-06; 8:45 am]

BILLING CODE 4510-29-P